NATIONAL SCIENCE FOUNDATION

Notice of Availability of Final Environmental Assessment and Finding of No Significant Impact

AGENCY: National Science Foundation.

ACTION: Notice.

SUMMARY: Final Environmental Assessment (EA) and Finding of No Significant Impact (FONSI) for the Construction of Northern Arizona University's Merriam-Powell Research Station at The Arboretum at Flagstaff, Flagstaff, Arizona.

DATES: November 25, 2005.

FOR FURTHER INFORMATION OR COMMENTS: Electronic copies of the Final EA and FONSI of the National Science Foundation (NSF) are available for review at http://www.nsf.gov/bio/pubs/reports/ea_mprs.doc. Please direct any requests for paper copies of the Final EA and FONSI to Amy V. Whipple, Merriam-Powell Center for Environmental Research, PO Box 5640, Northern Arizona University, Flagstaff, AZ 86011 or Amy.Whipple@NAU.EDU. The NSF Program contact for this project is Gerald B. Selzer, Director of the Field Stations and Marine Laboratories Program, 4201 Wilson Blvd., Arlington, VA 22230 or gselzer@nsf.gov.

SUPPLEMENTARY INFORMATION: Northern Arizona University proposes to construct and operate the Merriam-Powell Research Station (MPRS) in collaboration with an on property leased from The Arboretum at Flagstaff. This project is funded by the NSF, which is the Federal agency responsible for the environmental review process. The environmental review process was conducted in accordance with the National Environmental Policy Act (NEPA) and other applicable Federal laws and regulations. The proposed research station will provide facilities for visiting researchers, students, instructors, and agency personnel. It will leverage productive collaborations involving NAU researchers and the numerous field research opportunities in Northern Arizona, including the adjacent NAU Centennial Forest. The two alternative sites considered for the MPRS were on undeveloped land on the NAU Centennial Forest and adjacent to existing development at The Arboretum at Flagstaff. It is expected that construction will be completed in July of 2006.

A Draft Environmental Assessment (EA) was prepared and made available for a period of public comment that ended November 7, 2005. A Final EA was prepared after NSF considered all comments received on the Draft EA. From the information contained in the Final EA, NSF determined that no significant environmental impacts would result from construction of the Merriam-Powell Research Station on the preferred site at the Arboretum at Flagstaff. Therefore, NSF has issued a Finding of No significant Impact (FONSI) in conformance with Federal regulations at 45 Code of Federal Regulations 640.4(e).

Gerald B. Selzer,
Program Director for Field Stations and Marine Laboratories, Division of Biological Infrastructure, National Science Foundation.

[FR Doc. 05-23298 Filed 11-23-05; 8:45 am]

BILLING CODE 7555-01-M